DEPARTMENT OF COMMERCE

National Oceanic and Atmospheric Administration

[RTID 0648-XD542]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Executive Committee.

DATES: The meetings will be held Tuesday, December 12 through Thursday, December 14, 2023. For agenda details, see SUPPLEMENTARY INFORMATION.

ADDRESSES: This meeting will be an in-person meeting with a virtual option. Council members, other meeting participants, and members of the public will have the option to participate in person at The Notary Hotel Philadelphia or virtually via Webex webinar. Webinar connection instructions and briefing materials will be available at: https://www.mafmc.org/briefing/december-2023.

Council address: Mid-Atlantic Fishery Management Council, 800 N State St., Suite 201, Dover, DE 19901; telephone: (302) 674-2331; www.mafmc.org.

FOR FURTHER INFORMATION CONTACT: Christopher M. Moore, Ph.D. Executive Director, Mid-Atlantic Fishery Management Council; telephone: (302) 526-5255. The Council's website, www.mafmc.org, also has details on the meeting location, proposed agenda, webinar listen-in access, and briefing materials.

SUPPLEMENTARY INFORMATION: The following items are on the agenda, although agenda items may be addressed out of order (changes will be noted on the Council's website when possible.)

Tuesday, December 12, 2023

Executive Committee—Closed Session

2023 Ricks E. Savage Award discussion

Council Convenes With the Atlantic States Marine Fisheries Commission's (ASMFC) Summer Flounder, Scup, and Black Sea Bass Management Board

Summer Flounder Commercial Mesh Size Regulations and Exemptions

Review industry and Monitoring Committee recommendations on summer flounder commercial minimum mesh size, Small Mesh Exemption Program, and flynet exemption

Consider any necessary changes to the regulations

Identify next steps and research priorities as needed

LUNCH

Recreational Demand Model Overview—Lou Carr-Harris, Northeast Fisheries Science Center

Overview of Northeast Fishery Science Center (NEFSC) Recreational Demand Model and development of Decision Support Tool

2024-2025 Summer Flounder Recreational Measures

Review Advisory Panel and Monitoring Committee recommendations

Adopt target level of coastwide harvest based on the Percent Change Approach

Recommend conservation equivalency or coastwide management and associated measures for 2024-2025

2024-2025 Scup Recreational Measures

Review Advisory Panel and Monitoring Committee recommendations

Adopt target level of coastwide harvest based on the Percent Change Approach

Recommend 2024-2025 recreational management measures for federal waters, provide preliminary guidance to the Technical Committee on development of state measures proposals, and discuss the federal waters closure for January-April 2024

Wednesday, December 13, 2023

2024 Black Sea Bass Recreational Measures

Review Advisory Panel and Monitoring Committee recommendations

Adopt target level of coastwide harvest based on the Percent Change Approach

Recommend conservation equivalency or coastwide management and associated measures for 2024

Review and consider approval of Virginia's proposal for February 2024 recreational fishery (Board only)

Council and Summer Flounder, Scup, and Black Sea Bass Board Adjourn Council Convenes With the ASMFC Interstate Fishery Management Program Policy Board

Summer Flounder, Scup, Black Sea Bass, and Bluefish Recreational Measures Setting Process Framework/Addenda

Update on progress

Consider refining range of preliminary alternatives based on recommendation of FMAT/PDT

Discuss next steps

Council and ASMFC Interstate Fishery Management Program Policy Board Adjourn Council Convenes

Guidance Document for Council Review of Exempted Fishing Permit Applications for Unmanaged Forage Amendment Ecosystem Component Species

Review revisions to the document

Review Ecosystem and Ocean Planning Advisory Panel and Committee input

Approve document

Responsible Offshore Fishing Alliance (ROSA)—Reneé Reilly, ROSA

Review of ROSA's Strategic Plan, activities, and steps to support the Council's offshore wind efforts

LUNCH

2024-2026 Spiny Dogfish Specifications

Review recommendations from the SSC, Monitoring Committee, Advisory Panel, and staff

Adopt specifications for 2024-2025

Review and revise 2024-2025 commercial measures if needed

2024-2025 Atlantic Mackerel Specifications

Review recommendations from the SSC, Monitoring Committee, Advisory Panel, and staff

Golden Tilefish Individual Fishing Quota Program Twelve-Year Review

Presentation of final report (Northern Economics, Inc.)

Initiate public comment period

2024 Implementation Plan

Review and approve 2024 Implementation Plan

Thursday, December 14, 2023

Business Session

Committee Reports (SSC); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c).

Special Accommodations

These meetings are physically accessible to people with disabilities. Requests for sign language interpretation or other auxiliary aid should be directed to Shelley Spedden, (302) 526-5251, at least 5 days prior to the meeting date.

Authority: 16 U.S.C. 1801 et seq.

Dated: November 14, 2023.
Rey Israel Marquez,
Acting Deputy Director, Office of Sustainable Fisheries, National Marine Fisheries Service.

[FR Doc. 2023-25534 Filed 11-17-23; 8:45 am]

BILLING CODE 3510-22-P